DEPARTMENT OF TRANSPORTATION

Federal Aviation Administration

Notice of Passenger Facility Charge (PFC) Approvals and Disapprovals.

AGENCY: Federal Aviation Administration (FAA), DOT.

ACTION: Monthly Notice of PFC Approvals and Disapprovals. In January 2005, there were three applications approved. This notice also includes information on two applications, one approved in July 2003 and the other approved in December 2004, inadvertently left off the July 2003 and December 2004 notices, respectively. Additionally, six approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: City of San Antonio, Texas.

Application Number: 03-02-U-00-SAT.

Application Type: Use PFC revenue.

PFC Level: $3.00.

Total PFC Revenue to be Used in This Decision: $47,579,422.

Charge Effective Date: November 1, 2001.

Estimated Charge Expiration Date: November 1, 2009.

Class of Air Carriers not Required to Collect PFCS:

No change from previous decision.

Brief Description of Projects Approved for use:

Construct concourse B.

Construct concourse B access road.

Decision Date: July 23, 2003.

FOR FURTHER INFORMATION CONTACT: G. Thomas Wade, Southwest Region Airports Division, (817) 222-5613.

Public Agency: Paducah Airport Corporation, Paducah, Kentucky.

Application Number: 04-02-C-00-PAH.

Application Type: Impose and use a PFC.

PFC Level: $3.00.

Total PFC Revenue Approved in This Decision: $875,189.

Earliest Charge Effective Date: April 1, 2005.

Estimated Charge Expiration Date: March 1, 2014.

Class of Air Carriers not Required to Collect PFC's:

Part 135 on-demand.

Determination: Approved. Based on information submitted in the public agency's application, the FAA has determined that the approved class accounts for less than 1 percent of the total annual enplanements at Barkley Regional Airport.

Brief Description of Projects Approved for Collection and Use:

Airport master plan.

Safety and security equipment improvements.

West apron extension and taxiway C west extension.

West apron rehabilitation.

Parking lot extension, perimeter security fence relocation.

Airfield lighting system transformers.

Taxiway overlay of A and B and runways 4/22 and 14/32.

Remaining distance runway signage.

New perimeter road.

Taxiway C east strengthening and widening.

Airport terminal renovation.

Taxiway W and F construction.

Runway 14/32 and taxiway C east extension.

Decision Date: December 3, 2004.

for further information contact: Michael Thompson, Memphis Airports District Office, (901) 322-8188.

Public Agency: City and Borough of Juneau, Alaska.

Application Number: 04-07-C-00-JNU.

Application Type: Impose and use a PFC.

PFC Level: $4.50.

Total PFC Revenue Approved in This Decision: $4,706,313.

Earliest Charge Effective Date: May 1, 2005.

Estimated Charge Expiration Date: April 1, 2009.

Class of Air Carriers Not Required to Collect PFC's: None.

Brief Description of Projects Approved for Collection and use:

Purchase snow removal equipment support vehicle (unit 4).

Snow removal equipment (snow brooms, skidsteer and chemical truck) and a command vehicle.

Security upgrades (acquire fingerprint equipment, acquire Americans with Disabilities Act reader boards, parking modifications, terminal barriers, upgrade public address system, upgrade fencing, install restrooms in departure lounge, and gate K lighting and security cameras).

Security upgrades (complete departure lounge restrooms, bomb blast assessment, taxi stand reconfiguration, and purchase of bulletproof vests).

Rehabilitation of main entrance road.

Second phase of terminal mater plan.

Construction taxiway extensions C1 and W2.

Two-behind runway friction measuring unit and dedicated tow vehicle, vacuum truck, and loader for snow removal.

Expand D-1 ramp.

Purchase security vehicle.

Reconstruction of the Part 121 ramp, phase I.

Rehabilitate west general aviation area.

Implementation of wildlife hazard management plan recommendations, phase I.

Purchase land for airport expansion.

Decision Date: January 3, 2005.

for further information contact: James Lomen, Alaska Region Airports Division, (907) 271-5816.

Public Agency: Duluth Airport Authority, Duluth, Minnesota.

Application Number: 05-07-C-00-DLH.

Application Type: Impose and use a PFC.

PFC Level: $4.50.

Total PFC Revenue Approved in this Decision: $2,745,402.

Earliest Charge Effective Date: April 1, 2005.

Estimated Charge Expiration Date: May 1, 2010.

Class of Air Carriers Not Required to Collect PFC's:

Non-scheduled Part 135 air taxi/commercial operators.

Determination: Approved. Based on information submitted in the public agency's application, the FAA has determined that the approved class accounts for less than 1 percent of the total annual enplanements at Duluth International Airport.

Brief Description of Projects Approved for Collection and Use:

Preparation of PFC application.

Improve runway safety area at the approach end of runway 21.

Replace runway end identifier lights serving runway 21.

Rehabilitate taxiway A (east of taxiway C), the east run-up pad, and taxiway A5, including shoulder and drainage improvements.

Rehabilitate the medium intensity taxiway edge lighting system for taxiway A (east of taxiway C), the east run-up pad, and taxiway A5.

Prepare environmental assessment for construction and installation of a perimeter road and security/safety (deer prevention) fence around the north, west, and southwest portions of the airfield.

Rehabilitate taxiway E-27 approach (1,000 feet) including taxiway shoulders (35 feet wide), drainage, and taxiway edge lighting system.

Rehabilitate runway 9/27, including runway shoulders (35 feet wide), drainage, and replacement of the high intensity runway edge lighting system for runway 9/27 (3 phases).

Replace/install airfield signs (guidance and runway distance remaining) along runway 9/27 and associated taxiways (3 phases).

Acquire a passenger boarding bridge.

Acquire a runway sweeper (snow removal equipment).

Construct north, west, and southwest perimeter road (2 phases).

Install north, west, and southwest perimeter security/safety fencing (2 phases).

Construct aircraft rescue and firefighting facility index B.

Wetland mitigation for north-side airfield development.

Purchase replacement snow removal equipment.

Decision Date: January 25, 2005.

FOR FURTHER INFORMATION CONTACT: Gordon Nelson, Minneapolis Airports

District Office, (612) 713-4358.

Public Agency: Monterey Peninsula Airport District, Monterey, California.

Application Number: 05-11-C-00-MRY.

Application Type: Impose and use a PFC.

PFC Level: $4.50.

Total PFC Revenue Approved in This Decision: $1,166,290.

Earliest Charge Effective Date: March 1, 2005.

Estimated Charge Expiration Date: May 1, 2007.

Class of Air Carriers not Required to Collect PFC's: Unscheduled Part 135 air taxi operators.

Determination: Approved. Based on information submitted in the public agency's application, the FAA has determined that the approved class accounts for less than 1 percent of the total annual enplanements at Monterey Peninsula Airport.

Brief Description of Projects Approved for Collection and Use:

Terminal passenger circulation and building improvements.

Aircraft rescue and firefighting equipment.

Terminal elevator.

Decision Date: January 28, 2005.

FOR FURTHER INFORMATION CONTACT: Joseph Rodriguez, San Francisso Airports District Office, (650) 876-2778.

AMENDMENTS TO PFC APPROVALS:
Amendment No., city, state | Amendment approved date | Original approved net PFC revenue ($) | Amended approved net PFC revenue ($) | Original estimated charge exp. date | Amended estimated charge exp. date
02-06-C-03-JNU, Juneau, AK | 11/08/04 | 2,585,779 | 2,589,669 | 05/01/05 | 05/01/05
*03-03-1-01-GLH, Greenville, MS | 12/15/04 | 88,495 | 88,495 | 06/01/06 | 12/01/05
03-06-C-01-ACV, Arcata, CA | 01/10/05 | 503,000 | 578,450 | 08/01/05 | 03/01/05
93-01-C-05-MRY, Monterey, CA | 01/26/05 | 4,104,131 | 3,994,973 | 10/01/00 | 10/01/00
94-02-U-02-MRY, Monterey, CA | 01/26/05 | NA | NA | 10/01/00 | 10/01/00
00-06-C-02-MRY, Monterey, CA | 01/26/05 | 376,338 | 276,338 | 10/01/01 | 10/01/01
(Note: The amendment denoted by an asterisk (*) includes a change to the PFC level charged from $3.00 per enplaned passenger to $4.50 per enplaned passenger. For Greenville, MS, this change is effective on April 1, 2005).

Issued in Washington, DC on August 1, 2005.
Joe Hebert,
Manager, Financial Analysis and Passenger Facility Charge Branch.

[FR Doc. 05-15552 Filed 8-5-05; 8:45 am]

BILLING CODE 4910-13-M